DEPARTMENT OF ENERGY

Federal Energy Regulatory Commission

Combined Notice of Filings No. 2

October 4, 2010.

Take notice that the Commission has received the following Natural Gas Pipeline Rate and Refund Report filings:

Docket Numbers: RP11-1-000.

Applicants: Southwest Gas Storage Company.

Description: Southwest Gas Storage Company submits tariff filing per 154.204: Fuel Reimbursement Adjustment to be effective 11/1/2010.

Filed Date: 10/01/2010.

Accession Number: 20101001-5075.

Comment Date: 5 p.m. Eastern Time on Wednesday, October 13, 2010.

Docket Numbers: RP11-2-000.

Applicants: Panhandle Eastern Pipe Line Company, LP.

Description: Panhandle Eastern Pipe Line Company, LP submits tariff filing per 154.204: Fuel Reimbursement Adjustment to be effective 11/1/2010.

Filed Date: 10/01/2010.

Accession Number: 20101001-5076.

Comment Date: 5 p.m. Eastern Time on Wednesday, October 13, 2010.

Docket Numbers: RP11-3-000.

Applicants: Trunkline Gas Company, LLC.

Description: Trunkline Gas Company, LLC submits tariff filing per 154.204: Fuel Reimbursement Adjustment to be effective 11/1/2010.

Filed Date: 10/01/2010.

Accession Number: 20101001-5079.

Comment Date: 5 p.m. Eastern Time on Wednesday, October 13, 2010.

Docket Numbers: RP11-4-000.

Applicants: Trunkline Gas Company, LLC.

Description: Trunkline Gas Company, LLC submits tariff filing per 154.203: Annual Rpt of Flow Through to be effective N/A.

Filed Date: 10/01/2010.

Accession Number: 20101001-5080.

Comment Date: 5 p.m. Eastern Time on Wednesday, October 13, 2010.

Docket Numbers: RP11-5-000.

Applicants: Gulf South Pipeline Company, LP.

Description: Gulf South Pipeline Company, LP submits tariff filing per 154.204: HK Transportation LLC Amendment to be effective 10/1/2010.

Filed Date: 10/01/2010.

Accession Number: 20101001-5085.

Comment Date: 5 p.m. Eastern Time on Wednesday, October 13, 2010.

Docket Numbers: RP11-6-000.

Applicants: Maritimes & Northeast Pipeline, L.L.C.

Description: Maritimes & Northeast Pipeline, L.L.C. submits tariff filing per 154.204: FOSA Modifications to be effective 11/1/2010.

Filed Date: 10/01/2010.

Accession Number: 20101001-5098.

Comment Date: 5 p.m. Eastern Time on Wednesday, October 13, 2010.

Docket Numbers: RP11-8-000.

Applicants: Southeast Supply Header, LLC.

Description: Southeast Supply Header, LLC submits tariff filing per 154.204: Negotiated Rate Agreement—contract 840024 to be effective 11/1/2010.

Filed Date: 10/01/2010.

Accession Number: 20101001-5113.

Comment Date: 5 p.m. Eastern Time on Wednesday, October 13, 2010.

Docket Numbers: RP11-10-000.

Applicants: Destin Pipeline Company, L.L.C.

Description: Destin Pipeline Company, L.L.C. submits tariff filing per 154.203: NAESB Compliance Filing 1.9 to be effective 11/1/2010.

Filed Date: 10/01/2010.

Accession Number: 20101001-5119.

Comment Date: 5 p.m. Eastern Time on Wednesday, October 13, 2010.

Docket Numbers: RP11-11-000.

Applicants: Cheniere Creole Trail Pipeline, L.P.

Description: Cheniere Creole Trail PIPELINE, L.P. submits tariff filing per 154.20T: Transportation Retainage Adjustment to be effective 11/1/2010.

Filed Date: 10/01/2010.

Accession Number: 20101001-5123.

Comment Date: 5 p.m. Eastern Time on Wednesday, October 13, 2010.

Docket Numbers: RP11-12-000.

Applicants: Columbia Gulf Transmission Company.

Description: Columbia Gulf Transmission Company submits tariff filing per 154.204: Non-Conforming—CenterPoint Energy—# 20568 to be effective 11/1/2010.

Filed Date: 10/01/2010.

Accession Number: 20101001-5133.

Comment Date: 5 p.m. Eastern Time on Wednesday, October 13, 2010.

Docket Numbers: RP11-13-000.

Applicants: Dominion Transmission, Inc.

Description: Dominion Transmission, Inc. submits tariff filing per 154.204: DTI—Non-Conforming Agreements to be effective 11/1/2010.

Filed Date: 10/01/2010.

Accession Number: 20101001-5136.

Comment Date: 5 p.m. Eastern Time on Wednesday, October 13, 2010.

Docket Numbers: RP11-14-000.

Applicants: Gulf South Pipeline Company, LP.

Description: Gulf South Pipeline Company, LP submits tariff filing per 154.204: TETCO 10-1-10 Negotiated Rate Agreement to be effective 10/1/2010.

Filed Date: 10/01/2010.

Accession Number: 20101001-5147.

Comment Date: 5 p.m. Eastern Time on Wednesday, October 13, 2010.

Docket Numbers: RP11-15-000.

Applicants: Gulf South Pipeline Company, LP.

Description: Gulf South Pipeline Company, LP submits tariff filing per 154.204: HK to Sequent Cap Rel Neg Rate Agmt to be effective 10/1/2010.

Filed Date: 10/01/2010.

Accession Number: 20101001-5155.

Comment Date: 5 p.m. Eastern Time on Wednesday, October 13, 2010.

Docket Numbers: RP11-16-000.

Applicants: Gulf South Pipeline Company, LP.

Description: Gulf South Pipeline Company, LP submits tariff filing per 154.204: Devon Amendment to be effective 10/1/2010.

Filed Date: 10/01/2010.

Accession Number: 20101001-5171.

Comment Date: 5 p.m. Eastern Time on Wednesday, October 13, 2010.

Docket Numbers: RP11-17-000.

Applicants: Dominion Transmission, Inc.

Description: Dominion Transmission, Inc. submits tariff filing per 154.204: DTI—Dominion Hub III Negotiated Rate Agreement to be effective 11/1/2010.

Filed Date: 10/01/2010.

Accession Number: 20101001-5180.

Comment Date: 5 p.m. Eastern Time on Wednesday, October 13, 2010.

Docket Numbers: RP11-18-000.

Applicants: Texas Eastern Transmission, LP.

Description: Texas Eastern Transmission, LP submits tariff filing per 154.204: TEMAX-TIME 3 In-Service Filing to be effective 11/1/2010.

Filed Date: 10/01/2010.

Accession Number: 20101001-5226.

Comment Date: 5 p.m. Eastern Time on Wednesday, October 13, 2010.

Docket Numbers: RP11-19-000.

Applicants: CenterPoint Energy Gas Transmission Company.

Description: CenterPoint Energy Gas Transmission Company submits tariff filing per 154.204: KGen Negotiated Rate Filing—10-2010 to be effective 9/30/2010.

Filed Date: 10/01/2010.

Accession Number: 20101001-5238.

Comment Date: 5 p.m. Eastern Time on Wednesday, October 13, 2010.

Docket Numbers: RP11-20-000.

Applicants: ANR Pipeline Company.

Description: ANR Pipeline Company submits tariff filing per 154.601: Negotiated Rate—Wisconsin Electric Power Company to be effective 10/1/2010.

Filed Date: 10/01/2010.

Accession Number: 20101001-5243.

Comment Date: 5 p.m. Eastern Time on Wednesday, October 13, 2010.

Docket Numbers: RP11-21-000.

Applicants: ETC Tiger Pipeline, LLC.

Description: ETC Tiger Pipeline, LLC submits Original Sheet 1 et al to FERC Gas Tariff, Original Volume 1 effective 12/1/10.

Filed Date: 10/01/2010.

Accession Number: 20101001-0214.

Comment Date: 5 p.m. Eastern Time on Wednesday, October 13, 2010.

Docket Numbers: RP11-22-000.

Applicants: Portland Natural Gas Transmission System.

Description: Portland Natural Gas Transmission System submits tariff filing per 154.203: Short Term Services to be effective 10/23/2010.

Filed Date: 10/01/2010.

Accession Number: 20101001-5266.

Comment Date: 5 p.m. Eastern Time on Wednesday, October 13, 2010.

Docket Numbers: RP11-23-000.

Applicants: Midcontinent Express Pipeline LLC.

Description: Midcontinent Express Pipeline LLC submits tariff filing per 154.204: Tenaska's Negotiated Rate Filing to be effective 10/1/2010.

Filed Date: 10/01/2010.

Accession Number: 20101001-5276.

Comment Date: 5 p.m. Eastern Time on Wednesday, October 13, 2010.

Docket Numbers: RP11-24-000.

Applicants: Columbia Gulf Transmission Company.

Description: Columbia Gulf Transmission Company submits tariff filing per 154.204: SVS to be effective 11/1/2010.

Filed Date: 10/01/2010.

Accession Number: 20101001-5277.

Comment Date: 5 p.m. Eastern Time on Wednesday, October 13, 2010.

Docket Numbers: RP11-25-000.

Applicants: Colorado Interstate Gas Company.

Description: Colorado Interstate Gas Company submits tariff filing per 154.203: Raton 2010 Expansion Compliance Filing to be effective 12/1/2010.

Filed Date: 10/01/2010.

Accession Number: 20101001-5280.

Comment Date: 5 p.m. Eastern Time on Wednesday, October 13, 2010.

Docket Numbers: RP11-26-000.

Applicants: Wyoming Interstate Company, L.L.C.

Description: Wyoming Interstate Company, L.L.C. submits tariff filing per 154.204: Wamsutter System Enhancement Non-Conf. Agreement Filing to be effective 11/1/2010.

Filed Date: 10/01/2010.

Accession Number: 20101001-5302.

Comment Date: 5 p.m. Eastern Time on Wednesday, October 13, 2010.

Docket Numbers: RP11-27-000.

Applicants: Northwest Pipeline GP.

Description: Northwest Pipeline GP submits tariff filing per 154.204: Northwest Pipeline GP—Non-Conforming Volume & Agreement to be effective 11/1/2010.

Filed Date: 10/01/2010.

Accession Number: 20101001-5305.

Comment Date: 5 p.m. Eastern Time on Wednesday, October 13, 2010.

Docket Numbers: RP11-28-000.

Applicants: Hardy Storage Company, LLC.

Description: Hardy Storage Company, LLC submits tariff filing per 154.204: RAM 2010 to be effective 11/1/2010.

Filed Date: 10/01/2010.

Accession Number: 20101001-5306.

Comment Date: 5 p.m. Eastern Time on Wednesday, October 13, 2010.

Docket Numbers: RP11-29-000.

Applicants: Williston Basin Interstate Pipeline Company.

Description: Williston Basin Interstate Pipeline Company submits tariff filing per 154.203: Compliance Filing—Semi-annual Fuel & Electric Power Reimbursement to be effective 10/1/2010.

Filed Date: 10/01/2010.

Accession Number: 20101001-5307.

Comment Date: 5 p.m. Eastern Time on Wednesday, October 13, 2010.

Docket Numbers: RP11-30-000.

Applicants: Gulf South Pipeline Company, LP.

Description: Motion of Gulf South Pipeline Company, LP for waiver of Filing Requirements under 18 CFR ¶ 284.13(c).

Filed Date: 10/01/2010.

Accession Number: 20101001-5316.

Comment Date: 5 p.m. Eastern Time on Wednesday, October 13, 2010.

Docket Numbers: RP11-31-000.

Applicants: Gulf South Pipeline Company, LP.

Description: Gulf South Pipeline Company, LP submits tariff filing per 154.204: JW to Q-West #1 to be effective 10/1/2010.

Filed Date: 10/04/2010.

Accession Number: 20101004-5041.

Comment Date: 5 p.m. Eastern Time on Monday, October 18, 2010.

Docket Numbers: RP11-32-000.

Applicants: Gulf South Pipeline Company, LP.

Description: Gulf South Pipeline Company, LP submits tariff filing per 154.204: JW to Q-West #2, 10-1-10 to be effective 10/1/2010.

Filed Date: 10/04/2010.

Accession Number: 20101004-5042.

Comment Date: 5 p.m. Eastern Time on Monday, October 18, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-25562 Filed 10-8-10; 8:45 am]

BILLING CODE 6717-01-P